DEPARTMENT OF TRANSPORTATION

Bureau of Transportation Statistics

[Docket No. BTS-2004-19241]

Request for Public Comments on Reporting Requirements

AGENCY: Bureau of Transportation Statistics (BTS), DOT.

ACTION: Request for public comments.

SUMMARY: As part of our data quality review, we have contacted Federal Express (FedEx Express) concerning the carrier's compliance with the Department's mail reporting requirements. FedEx Express states that due to the structure and operation of its transportation agreement with the United States Postal Service, it is no longer in a position to comply with the mail reporting requirements. BTS is seeking public comments on the merits of the FedEx Express position and views on whether the Department's mail reporting requirements should be retained, amended, supplemented, replaced, or removed.

DATES: Comments must be received by December 7, 2004.

ADDRESSES: You may submit comments (identified by DMS Docket Number BTS-2004-19241) through the following methods:

Web Site: http://dms.dot.gov. Follow the instructions for submitting comments on the DOT electronic docket site.

Fax: 1-202-493-2251.

Mail: Docket Management Facility; U.S. Department of Transportation, 400 Seventh Street, SW., Nassif Building, Room PL-401, Washington, DC 20590-0001.

Hand Delivery: Room PL-401 on the plaza level of the Nassif Building, 400 Seventh Street, SW., Washington, DC, between 9 a.m. and 5 p.m., Monday through Friday, except Federal holidays.

Federal Rulemaking Portal: Go to http://www.regulations.gov. Follow the online instructions for submitting comments.

Instructions: All submissions must include the agency name and docket number. Note that all comments received will be posted without change to http://dms.dot.gov, including any personal information provided. You should know that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Docket: For access to the docket to read background documents or comments, go to http://dms.dot.gov at any time or to Room PL-401 on the plaza level of the Nassif Building, 400 Seventh Street, SW., Washington, DC, between 9 a.m. and 5 p.m., Monday through Friday, except Federal holidays.

FOR FURTHER INFORMATION CONTACT: Bernie Stankus, Office of Airline Information, Bureau of Transportation Statistics, Department of Transportation, Room 4125, 400 Seventh Street, SW., Washington, DC, 20590-0001, (202) 366-4387; bernard.stankus@bts.gov.

SUPPLEMENTARY INFORMATION: Pursuant to 14 CFR part 241, certain air carriers are required to file quarterly BTS Schedule P-1.2 Statement of Operations. This schedule has a separate line item for mail revenues. The schedule requires that reporting air carriers use account code 3905 for their mail revenues. According to BTS, FedEx Express has been reporting large amounts of mail as freight using account code 3906. In addition, pursuant to 14 CFR 214.19-5, certain air carriers are required to report the tons of mail carried on each nonstop segment flown using account code 239 and tons of mail enplaned using account code 219. According to BTS, rather than report all its mail traffic using these account codes, FedEx Express reported a large volume of mail as freight using account codes 237 and 217.

Following an April 1, 2004 meeting with BTS representatives, FedEx Express submitted an April 23 letter explaining its position. In its letter, FedEx Express asserted that because of its unique relationship with the United States Postal Service (USPS) it could not report its mail traffic in the format required by the regulation. According to FedEx Express, its transportation agreement with USPS is based on “linehaul space” and is not based on weight. Under this agreement, USPS purchases cubic feet of space in an aircraft. According to FedEx Express, USPS can use the space for the U.S. mail or shipping USPS supplies. In addition, the agreement allows FedEx to place its own items in those containers which have additional space. Thus, according to FedEx Express, it does not segregate the USPS product and weigh it separately. Therefore, according to FedEx Express, it does not have the data required by the part 241 regulation.

FedEx Express is also claiming that the reporting codes are not applicable to its operations because the codes only apply to “scheduled service” and the services provided to USPS are “not part of services performed pursuant to published flight schedules.”

FedEx Express also stated that to collect the required data would be “extremely burdensome”. According to FedEx Express, “[i]f the Department were to insist that FedEx Express generate the information, FedEx Express would have to unload containers, analyze the contents, sort the mail from freight, separate priority from non-priority mail, and weigh each group separately.”

FedEx Express also claimed that the disclosure of this required data would cause “serious competitive harm” to FedEx Express. FedEx Express stated that disclosure of the required data elements “would enable competitors to undercut [its] pricing or rates in future negotiations with USPS.” Finally, FedEx Express asserted that the data serve no official DOT purpose.

Request for Public Comments

We are treating FedEx Express' April 23rd letter as a waiver request (see 14 CFR part 241, Section 1-2 and 14 CFR 385.19(c)). Thus, we are inviting public comments on the FedEx Express request and views on whether the Department's mail reporting requirements should be retained, amended, supplemented, replaced, or removed. Based on the public comments and a review of the waiver request, BTS will consider a future rulemaking to amend, supplement, replace, or remove the relevant regulations.

We are posing a series of questions in the hope that the public comments will address several issues in particular:

(1) Do you use BTS' mail data elements required under part 241 and, if so, how do you use the information?

(2) Should BTS consider these mail data elements as confidential business information which, if disclosed to the public, would cause significant competitive harm to the supplier of the information?

(3) Should BTS change the manner in which it collects these mail data elements?

(4) Should BTS continue to collect the mail data elements under part 241?

(5) Would it be in the public interest for BTS to grant FedEx Express' waiver request?

(6) If your company is subject to the current part 241 reporting requirements, is it an extreme burden for your company to comply with those requirements? If so, please explain, in detail.

Issued in Washington, DC, on September 30, 2004.
Don Bright,
Assistant Director, Office of Airline Information.

[FR Doc. 04-22625 Filed 10-7-04; 8:45 am]

BILLING CODE 4910-62-P